DEPARTMENT OF HOMELAND SECURITY

Coast Guard

33 CFR Part 100

[Docket No. USCG-2023-0261]

Special Local Regulations; Marine Events Within the Sector Columbia River Captain of the Port Zone

AGENCY: Coast Guard, Department of Homeland Security (DHS).

ACTION: Notification of enforcement of regulation.

SUMMARY: The Coast Guard will enforce special local regulations at various locations in the Sector Columbia River Captain of the Port Zone from June 2, 2023, to September 9, 2023. This action is necessary to provide for the safety of life on these navigable waters during marine events. These regulations prohibit persons and vessels from being in the regulated area unless authorized by the Captain of the Port Sector Columbia River or a designated representative.

DATES: The regulations in 33 CFR 100.1302 will be enforced for the regulated areas identified in the SUPPLEMENTARY INFORMATION section below for the dates and times specified.

FOR FURTHER INFORMATION CONTACT: If you have questions about this notification of enforcement, call or email LT Carlie Gilligan, Waterways Management Division, Marine Safety Unit Portland, Coast Guard; telephone 503-240-9319, email D13-SMB-MSUPortlandWWM@uscg.mil.

SUPPLEMENTARY INFORMATION: The Coast Guard will enforce special local regulations in 33 CFR 100.1302 for the following events only during the hours specified on the dates listed in the following Table:

Table—Dates and Times of Enforcement of 33 CFR 100.1302 Special Local Regulations at Various Locations in the Sector Columbia River Captain of the Port Zone in 2023
No. | Date | Event | Location
1 | June 2, 2023, from 5:30 a.m. to 6:30 p.m | Spring Testing Hydroplane races | Kennewick, WA. Regulated area includes all navigable waters within the Columbia River in the vicinity of Columbia Park, commencing at the Interstate 395 Bridge and continuing up river approximately 2.0 miles and terminating at the northern end of Wade Island.
2 | June 10, 2023, from 6:30 a.m. to 6:30 p.m | Rose Fest Dragon Boat Races | Portland, OR. Regulated area includes all waters of the Willamette River shore to shore, bordered on the north by the Hawthorne Bridge, and on the south by the Marquam Bridge.
3 | July 28, 2023, thru July 30, 2023, from 5:30 a.m. to 6:30 p.m | Kennewick Hydroplane Races | Kennewick, WA. Regulated area includes all navigable waters within the Columbia River in the vicinity of Columbia Park, commencing at the Interstate 395 Bridge and continuing up river approximately 2.0 miles and terminating at the northern end of Wade Island.
4 | August 12, 2023, from 10:30 a.m. to 1:30 p.m | Swim the Snake | Perry, WA. Regulated area includes all navigable waters, bank-to-bank of the Snake River, 500 yards upstream and 500 yards downstream from the Washington State Highway 261 Bridge at the approximate position of 46°35′23″ N; 118°13′10″ W.
9 | September 9, 2023, from 7:30 a.m. to 10:30 a.m | Columbia Crossing Swim | Pasco, WA. Regulated area includes all navigable waters, bank-to-bank of the Columbia River in Pasco, Washington, between river mile 332 and river mile 335.

All coordinates are listed in the Table reference North American Datum (NAD) 1983.

During the enforcement periods, as reflected in § 100.1302, if you are the operator of a vessel in the regulated area you must comply with directions from the Patrol Commander or any official patrol vessel. In addition to this notification of enforcement in the Federal Register, the Coast Guard will provide notification of these enforcement periods via the Local Notice to Mariners and marine information broadcasts.

Dated: March 31, 2023.
M. Scott Jackson,
Captain, U.S. Coast Guard, Captain of the Port, Sector Columbia River.

[FR Doc. 2023-07227 Filed 4-6-23; 8:45 am]

BILLING CODE 9110-04-P